FEDERAL MINE SAFETY AND HEALTH REVIEW COMMISSION

Sunshine Act Meeting

Date: June 19, 2008.

Time and Date: 10 a.m., Wednesday, July 16, 2008.

Place: The Richard V. Backley Hearing Room, 9th Floor, 601 New Jersey Avenue, NW., Washington, DC.

Status: Open.

Matters to be Considered: The Commission will consider and act upon the following in open session: Secretary of Labor v. Spartan Mining Company, Docket Nos. WEVA 2004-117-RM, et al. (Issues include whether the Administrative Law Judge properly found violations and assessed penalties for the following standards: 30 CFR 75.606 (requiring protecting cables); 30 CFR 75.511 (requiring locking and tagging out before electrical work); 30 CFR 75.1725(a) (requiring unsafe equipment to be removed from service); and 30 CFR 75.313(a)(3) (requiring withdrawal from a working section in mine fan outage)).

Any person attending this meeting who requires special accessibility features and/or auxiliary aids, such as sign language interpreters, must inform the Commission in advance of those needs. Subject to 29 CFR 2706.150(a)(3) and 2706.160(d).

FOR FURTHER INFORMATION CONTACT: Jean Ellen (202) 434-9950/(202) 708-9300 for TDD Relay/1-800-877-8339 for toll free.

Sandra G. Farrow,
Acting Chief Docket Clerk.

[FR Doc. 08-1377 Filed 6-19-08; 11:15 am]

BILLING CODE 6735-01-P